FEDERAL RESERVE SYSTEM

Change in Bank Control Notices; Acquisitions of Shares of a Bank or Bank Holding Company

The notificants listed below have applied under the Change in Bank Control Act (12 U.S.C. 1817(j)) and 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 11, 2017.

A. Federal Reserve Bank of Atlanta (Chapelle Davis, Assistant Vice President) 1000 Peachtree Street NE., Atlanta, Georgia 30309. Comments can also be sent electronically to Applications.Comments@atl.frb.org:

1. Susan C. Patout, the Patout Family Voting Trust, the estate of William S. Patout III, and Susan C. Patout acting in her capacity as trustee of the trust and as executrix of the estate, all of Franklin, Louisiana; to acquire and also retain shares of Jeanerette First National Bancorp, Inc., Jeanerette, Louisiana, and thereby join the existing Patout family group previously approved to own shares of Jeanerette First National Bancorp, Inc., which is the parent holding company of The First National Bank of Jeanerette, Jeanerette, Louisiana.

B. Federal Reserve Bank of Chicago (Colette A. Fried, Assistant Vice President) 230 South LaSalle Street, Chicago, Illinois 60690-1414:

1. Arnold G. Leng Revocable Trust, Susan Leng Irrevocable Trust, and Arnold G. Leng, as trustee of both trusts, all of Primghar, Iowa; Steve Leng and Kathy Leng, both of Hartley, Iowa; Jean Triplett and Darryl Triplett, both of Primghar, Iowa; Mary Thomson and Jim Thomson, both of Primghar, Iowa; and Jan Westergard and Mark Westergard, both of Omaha, Nebraska; to join the Leng Family Control Group and acquire voting shares of Capital Bancshares, Inc., and thereby indirectly acquire shares of Savings Bank, both in Primghar, Iowa.

Board of Governors of the Federal Reserve System, September 21, 2017.
Yao-Chin Chao,
Assistant Secretary of the Board.

[FR Doc. 2017-20600 Filed 9-26-17; 8:45 am]

BILLING CODE 6210-01-P